DEPARTMENT OF JUSTICE

Antitrust Division

Notice Pursuant to the National Cooperative Research and Production Act of 1993—ODVA, Inc.

Notice is hereby given that, on October 30, 2015, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Cincinnati Test Systems, Inc., Harrison, OH; Automation Controls Group, Milwaukee, WI; ESYSE GmbH Embedded Systems Engineering, Duesseldorf, GERMANY; Wieland Electric GmbH, Bamberg, GERMANY; ELAP S.R.L., Corisco, ITALY; Define Instruments, Auckland, NEW ZEALAND; ORing Industrial Networking Corp., TAIWAN; and WEG Drives & Controls, Jaraguá do Sul, BRAZIL, have been added as parties to this venture.

Also, FiberFin, Inc., Yorkville, IL; EN Technologies Inc., Gunpo-si, REPUBLIC OF KOREA; and OTO Ltd., Gyungju-Si, REPUBLIC OF KOREA, have withdrawn as parties to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on August 5, 2015. A notice was published in the Federal Register pursuant to Section 6(b) of the Act on August 25, 2015 (80 FR 51605).

Patricia A. Brink,
Director of Civil Enforcement, Antitrust Division.

[FR Doc. 2015-30763 Filed 12-4-15; 8:45 am]

BILLING CODE 4410-11-P